DEPARTMENT OF TRANSPORTATION

Federal Railroad Administration

[Docket No. FRA 1999-6439, Notice No. 18]

Adjustment of Nationwide Significant Risk Threshold

AGENCY: Federal Railroad Administration (FRA), Department of Transportation (DOT).

ACTION: Notice of Adjustment of the Nationwide Significant Risk Threshold.

SUMMARY: In accordance with 49 CFR part 222, appendix D, FRA is updating the Nationwide Significant Risk Threshold (NSRT). This action is needed to ensure that the public has the proper threshold of permissible risk for calculating quiet zones established in relationship to the NSRT. This is the first update to the NSRT since the final rule entitled “Use of Locomotive Horns at Highway-Rail Grade Crossings” was published on April 27, 2005 (70 FR 21844). This notice increases the Nationwide Significant Risk Threshold (NSRT) from 17,030 to 19,047.

DATES: The effective date is March 29, 2007.

FOR FURTHER INFORMATION CONTACT: Ronald Ries, Office of Safety, RRS-25, Mail Stop 17, FRA, 1120 Vermont Ave., NW., Washington, DC 20590 (telephone 202-493-6299 or e-mail Ronald.Ries@dot.gov); or Ann Landis, Trial Attorney, Office of Chief Counsel, RCC-10, Mail Stop 10, FRA, 1120 Vermont Ave., NW., Washington, DC 20590 (telephone 202-493-6064 or e-mail Ann.Landis@dot.gov).

SUPPLEMENTARY INFORMATION

Background

The NSRT is simply an average of the risk indexes for all of the gated crossings nationwide where train horns are routinely sounded. When communities are determining whether a specific crossing corridor can qualify as a quiet zone pursuant to 49 CFR part 222, the NSRT is used for comparison to the Quiet Zone Risk Index calculated for that specific crossing corridor to determine if that crossing corridor's Quiet Zone Risk Index falls above or below the nationwide average. In 2005, when the final rule entitled “Use of Locomotive Horns at Highway-Rail Grade Crossings” was published, FRA calculated the NSRT to be 17,030 (an increase from 15,424 as published in the interim final rule (68 FR 70586, December 18, 2003)) (70 FR 21844, April 27, 2005). In the final rule, FRA indicated that the NSRT would be updated annually. This is the first update to the NSRT since the final rule was published on April 27, 2005.

New NSRT

Almost two years have passed since the NSRT was last updated. (70 FR 21844, April 27, 2005). Consequently, FRA has recalculated the threshold based on the formulas identified in 49 CFR part 222, appendix D. FRA used collision data from 2001-2005.

The total number of gated, non-whistle ban crossings was 38,577.

The total number of collisions at these crossings was 2,388.

Applying the fatality rate and injury rate to the probable number of fatalities and casualties predicted to occur at each of the 38,577 crossings identified and the predicted cost of the associated injuries and fatalities, FRA calculates the NSRT to be 19,047.

Authority: 28 U.S.C. 2461, note; 49 U.S.C. 20103, 20107, 20153, 21301, 21304; 49 CFR 1.49; 49 CFR part 222, Appendix D.

Issued in Washington, DC, on March 20, 2007.
Grady C. Cothen Jr.,
Deputy Associate Administrator for Safety Standards and Program Development.

[FR Doc. E7-5617 Filed 3-28-07; 8:45 am]

BILLING CODE 4910-06-P